DEPARTMENT OF ENERGY

Federal Energy Regulatory Commission

Combined Notice of Filings #1

Take notice that the Commission received the following electric corporate filings:

Docket Numbers: EC12-72-000.

Applicants: Gratiot County Wind LLC, EFS Gratiot Wind, LLC.

Description: Application for Authorization under section 203 of the Federal Power Act and Request for Waivers and Expedited Action of Gratiot County Wind LLC and EFS Gratiot Wind, LLC.

Filed Date: 2/13/12.

Accession Number: 20120213-5097.

Comments Due: 5 p.m. ET 3/5/12.

Take notice that the Commission received the following electric rate filings:

Docket Numbers: ER11-4402-002.

Applicants: PJM Interconnection, L.L.C.

Description: Compliance filing in ER11-4402-001 per Order dated Jan 13 2012 to be effective 11/1/2011.

Filed Date: 2/13/12.

Accession Number: 20120213-5035.

Comments Due: 5 p.m. ET 3/5/12.

Docket Numbers: ER12-41-002.

Applicants: ITC Midwest LLC.

Description: Compliance Filing of ITC Midwest to be effective 12/7/2011.

Filed Date: 2/13/12.

Accession Number: 20120213-5075.

Comments Due: 5 p.m. ET 3/5/12.

Docket Numbers: ER12-427-001.

Applicants: Midwest Independent Transmission System Operator, Inc.

Description: 02-13-12 CMMPA Reg. Asset Compliance to be effective 1/16/2012.

Filed Date: 2/13/12.

Accession Number: 20120213-5158.

Comments Due: 5 p.m. ET 3/5/12.

Docket Numbers: ER12-818-001.

Applicants: El Paso Electric Company.

Description: Refiling of Arlington Valley Solar II IA to be effective 1/13/2012.

Filed Date: 2/13/12.

Accession Number: 20120213-5145.

Comments Due: 5 p.m. ET 3/5/12.

Docket Numbers: ER12-1067-000.

Applicants: ISO New England Inc.

Description: ISO New England Inc. 2011 4th Quarter Capital Budget Report.

Filed Date: 2/13/12.

Accession Number: 20120213-5085.

Comments Due: 5 p.m. ET 3/5/12.

Docket Numbers: ER12-1068-000.

Applicants: PJM Interconnection, L.L.C.

Description: Second Revised Service Agreement Nos. 2960 & 2972; Amended ISA and ICSA to be effective 7/28/2011.

Filed Date: 2/13/12.

Accession Number: 20120213-5090.

Comments Due: 5 p.m. ET 3/5/12.

Docket Numbers: ER12-1069-000.

Applicants: AEP Texas North Company.

Description: 20120213 TNC—Blue Summit Wind SUA to be effective 2/9/2012.

Filed Date: 2/13/12.

Accession Number: 20120213-5123.

Comments Due: 5 p.m. ET 3/5/12.

Docket Numbers: ER12-1070-000.

Applicants: MidAmerican Energy Company.

Description: LGIA between MidAmerican and Clipper to be effective 1/19/2012.

Filed Date: 2/13/12.

Accession Number: 20120213-5154.

Comments Due: 5 p.m. ET 3/5/12.

Docket Numbers: ER12-1071-000.

Applicants: Entergy Arkansas, Inc.

Description: Compliance Filing for ER05-1065 and OA07-32 to be effective 2/13/2012.

Filed Date: 2/13/12.

Accession Number: 20120213-5156.

Comments Due: 5 p.m. ET 3/5/12.

Docket Numbers: ER12-1072-000.

Applicants: Midwest Independent Transmission System Operator, Inc.

Description: 02-13-12 ARR Load Shifts to be effective 4/14/2012.

Filed Date: 2/13/12.

Accession Number: 20120213-5159.

Comments Due: 5 p.m. ET 3/5/12.

Docket Numbers: ER12-1073-000.

Applicants: Southwest Power Pool, Inc.

Description: Submission of Cancellation of 2058 SWPA Loss Compensation to be effective 1/1/2012.

Filed Date: 2/13/12.

Accession Number: 20120213-5179.

Comments Due: 5 p.m. ET 3/5/12.

Docket Numbers: ER12-1074-000.

Applicants: ISO New England Inc., New England Power Pool Participants Committee.

Description: ISO New England Inc. submits tariff filing per 35.13(a)(2)(iii: Revisions to Financial Assurance Policy to be effective 4/13/2012.

Filed Date: 2/13/12.

Accession Number: 20120213-5212.

Comments Due: 5 p.m. ET 3/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2012.
Nathaniel J. Davis, Sr.,
Deputy Secretary.

[FR Doc. 2012-4184 Filed 2-22-12; 8:45 am]

BILLING CODE 6717-01-P